DEPARTMENT OF HEALTH AND HUMAN SERVICES

Charter Renewal for the National Advisory Committee on Rural Health and Human Services

AGENCY: Health Resources and Services Administration (HRSA), Department of Health and Human Services (HHS).

ACTION: Notice.

SUMMARY: In accordance with the Federal Advisory Committee Act (FACA), HHS is hereby giving notice that the National Advisory Committee on Rural Health and Human Services (NACRHHS or Committee) has been renewed. The effective date of the renewed charter is October 29, 2019.

FOR FURTHER INFORMATION CONTACT: Contact Paul Moore, Designate Federal Official, NACRHHS, HRSA, 5600 Fishers Lane, Room 17W59D, Rockville, Maryland 20857, telephone (301) 443-0835, fax (301) 443-2803 or by email at pmoore2@hrsa.gov.

SUPPLEMENTARY INFORMATION: NACRHHS provides advice to the Secretary of HHS (Secretary) concerning the provision and financing of health care and human services in rural areas. The current committee was established under Section 222 of the Public Health Service Act, as amended, 42 U.S.C. 217a. Each year, NACRHHS selects one or more topics upon which to focus during the year. By the end of the calendar year, the Committee produces a report with recommendations on that issue for the Secretary. In addition to the report, the Committee may also produce white papers on select policy issues. The charter renewal for NACRHHS was approved on October 29, 2019, which will also stands as the filing date. Renewal of the NACRHHS charter gives authorization for the committee to operate until October 29, 2021.

A copy of the NACRHHS charter is available on the NACRHHS website at https://www.hrsa.gov/advisory-committees/rural-health. A copy of the charter is also available on the FACA database maintained by the Committee Management Secretariat under the General Services Administration. The website for the FACA database is http://www.facadatabase.gov/.

Maria G. Button,
Director, Executive Secretariat.

[FR Doc. 2019-23729 Filed 10-30-19; 8:45 am]

BILLING CODE 4165-15-P